DEPARTMENT OF HOMELAND SECURITY

Federal Emergency Management Agency

44 CFR Part 350

[Docket ID FEMA-2012-0026]

RIN 1660-ZA21

Criteria for Preparation and Evaluation of Radiological Emergency Response Plans and Preparedness in Support of Nuclear Power Plants (NUREG-0654/FEMA-REP-1, Rev. 2)

AGENCY: Federal Emergency Management Agency, DHS.

ACTION: Notification of availability.

SUMMARY: The Federal Emergency Management Agency (FEMA), concurrently with the Nuclear Regulatory Commission (NRC), is issuing final guidance entitled “Criteria for Preparation and Evaluation of Radiological Emergency Response Plans and Preparedness in Support of Nuclear Power Plants” (NUREG-0654/FEMA-REP-1, Rev. 2). This final guidance document focuses on preparedness for radiological incidents at commercial nuclear power plants that could impact public health and safety.

DATES: This final guidance document was issued in December 2019.

ADDRESSES: This final guidance document is available online at http://www.regulations.gov and on FEMA's website at http://www.fema.gov. The proposed and final guidance documents, all related Federal Register Notices, and all public comments received during the comment period are available at http://www.regulations.gov under Docket ID FEMA-2012-0026. You may also view a hard copy of the final guidance document at the Office of Chief Counsel, Federal Emergency Management Agency, 500 C Street SW, Washington, DC 20472.

FOR FURTHER INFORMATION CONTACT: William Eberst, Policy Supervisor, Policy and Regulations Branch, Technological Hazards Division, National Preparedness Directorate, Resilience, william.eberst@fema.dhs.gov, (202) 341-4917.

SUPPLEMENTARY INFORMATION: As part of the domestic licensing of commercial nuclear power plants (NPPs), the Federal Emergency Management Agency (FEMA) and the Nuclear Regulatory Commission (NRC) evaluate emergency preparedness activities at and around these facilities. Emergency preparedness activities for a radiological incident at an NPP are essential for communities that could be affected by an incident at the facility. FEMA's role in the licensing process is to review and evaluate the adequacy of the planning and preparedness activities and capabilities of State, local, and Tribal governments and provide its findings and determinations to the NRC. FEMA performs this activity before the NRC issues a license to operate a NPP and then provides ongoing findings and determinations that planning and preparedness efforts are effective and consistent with regulatory guidelines. The NRC evaluates applicants for NPP site permits, construction permits, and operating licenses. As a part of that evaluation, the NRC reviews the licensees' emergency plans and preparedness efforts. NPP licensees and State, local, and Tribal governments within the emergency planning zones surrounding commercial NPPs must show that plans are in place that provide reasonable assurance that adequate protective measures will be taken to protect public health and safety in the event of an incident at an NPP.

In November 1980, FEMA issued “Criteria for Preparation and Evaluation of Radiological Emergency Response Plans and Preparedness in Support of Nuclear Power Plants (NUREG-0654/FEMA-REP-1, Rev. 1)” jointly with the Nuclear Regulatory Commission (NRC). (45 FR 85862, Dec. 30, 1980). NUREG-0654/FEMA-REP-1, Rev. 1 provides guidance on the 16 Planning Standards referenced in FEMA's regulations at 44 CFR 350.5 and the NRC's regulations at 10 CFR 50.47. Both agencies use these Planning Standards, and associated Evaluation Criteria contained in NUREG-0654/FEMA-REP-1, Rev. 1, to evaluate the adequacy of emergency plans and preparedness of NPP owners and operators, and the State, local, and Tribal government jurisdictions in which NPPs are sited.

Since the publication of NUREG-0654/FEMA-REP-1, Rev. 1 in 1980, four supplementary documents and one addendum (66 FR 22270, May 3, 2001) have been issued that update and modify specific planning and procedural elements. Since publication of these documents, there have been changes to FEMA and NRC regulations, guidance, policies and advances in technology. NUREG-0654/FEMA-REP-1, Rev. 2 consolidates the four supplementary documents and one addendum, clarifies the relationship of radiological emergency planning and preparedness to the larger National Preparedness System and its components, and provides updates and additional guidance reflective of over 30 years of improvements and lessons learned in the radiological emergency preparedness community.

To begin this revision process, FEMA held two public meetings on August 22, 2012 and September 13, 2012 to discuss the scope of the proposed revision to NUREG-0654/FEMA-REP-1, Rev. 1 (77 FR 46766, Aug. 6, 2012). Based on feedback from the two public meetings, FEMA solicited comments from stakeholders and interested members of the public on the scope of future revisions to NUREG-0654/FEMA-REP-1, Rev. 1 (77 FR 65700, Oct. 30, 2012). A series of stakeholder engagement sessions were held on October 29-31, 2013 and June 25, 2014. Summaries of the stakeholder engagement sessions are posted to the Federal eRulemaking Portal at http://www.regulations.gov under Document ID: FEMA-2012-0026-0055 and FEMA-2012-0026-0053, respectively.

The NUREG-0654/FEMA-REP-1, Rev. 2 draft was posted to the Federal eRulemaking Portal for public comment (80 FR 30697, May 29, 2015). The original comment period was scheduled to conclude on August 27, 2015, however, several commenters requested an extension beyond the original 90-day comment period. Commenters cited the voluminous material put forth by the agencies for comment and that the proposed guidance document covered many policy matters that required a time consuming review by licensees and their offsite counterparts. FEMA and the NRC determined that it was in the interest of all parties to extend the comment period to October 13, 2015 (80 FR 50862, Aug. 21, 2015). Most of the changes made to the proposed guidance document are clarifying, non-substantive changes that reflect current practice.

FEMA and the NRC are issuing the final guidance document: “Criteria for Preparation and Evaluation of Radiological Emergency Response Plans and Preparedness in Support of Nuclear Power Plants” (NUREG-0654/FEMA-REP-1, Rev. 2). The final guidance document included adjudication of 631 comments from 32 commenters. FEMA and the NRC prepared a comment/response matrix entitled “Adjudication Report for NUREG-0654/FEMA-REP-1, Rev. 2 Public Comments Sorted by Document Order December 2019” that may be viewed at www.regulations.gov under Docket ID FEMA-2012-0026. The substantive changes in the final guidance document align with the national preparedness doctrine, as directed by the President in directives and supported by the National Preparedness System (NPS). Additionally, this final guidance document incorporates the Radiological Emergency Preparedness Program guidance into the NPS, thus ensuring that it is risk- and threat-informed and appropriate for the whole community.

The contents of this final guidance document do not have the force and effect of law and are not meant to bind the public in any way. This final guidance document is intended only to provide clarity to the public regarding existing requirements under the law or agency policies.

Implementation: The timeframe for transition to the final guidance document, “Criteria for Preparation and Evaluation of Radiological Emergency Response Plans and Preparedness in Support of Nuclear Power Plants” (NUREG-0654/FEMA-REP-1, Rev. 2), will vary amongst State, local, and Tribal governments and will be tied to their individual exercise cycle. FEMA intends to work with each jurisdiction to determine the best timeframe for transition, taking both the level of effort and where each is within their exercise cycle into account.

Authority: NRC Authorization Acts of 1980 (Pub. L. 96-295) and 1982-1983 (Pub. L. 97-415); Robert T. Stafford Disaster Relief and Emergency Assistance Act, as amended, Titles II and VI, Sections 201 and 611, 42 U.S.C. 5131 and 5196; Homeland Security Act of 2002, as amended, Title VI, Chapter 1, Subchapter V, Sections 503 and 504, 6 U.S.C. 313 and 314; Security and Accountability for Every Port Act of 2006, Title V, Section 612, 6 U.S.C. 314a; Department of Veterans Affairs and Housing and Urban Development, and Independent Agencies Appropriations for 1999, 42 U.S.C. 5196e; Post-Katrina Emergency Management Reform Act of 2006, Title VI, Sections 602, 642, 643, and 644, 6 U.S.C. 701, 742, 743, and 744; Reorganization Plan No. 3 of 1978; E.O. 12241, as amended; E.O. 12127, as amended. E.O. 12148, as amended; E.O. 12657, as amended; FEMA's regulations in title 44, chapter I, parts 350-354 of the CFR.

Dated: November 27, 2019.
Pete Gaynor,
Acting Administrator, Federal Emergency Management Agency.

[FR Doc. 2019-27384 Filed 12-20-19; 8:45 am]

BILLING CODE 9111-46-P